FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 477NF.

Name: Oceano Shipping Co., Inc.

Address: 75 Maiden Lane, New York, NY 10038.

Date Revoked: April 14, 2010.

Reason: Failed to maintain valid bonds.

License Number: 1384F.

Name: Bryan Forwarding Company, Inc.

Address: 16801 Greenspoint Park Drive, Suite 105, Houston, TX 77060.

Date Revoked: April 9, 2010.

Reason: Failed to maintain a valid bond.

License Number: 3330F.

Name: ABM International Corporation dba Intermountain Forwarding Co.

Address: 285 North Linder Road, P.O. Box 190, Kuna, ID 83634.

Date Revoked: April 4, 2010.

Reason: Failed to maintain a valid bond.

License Number: 3549F.

Name: Cross Ocean International, Inc.

Address: 905 West Hillgrove Avenue, Suite 14, La Grange, IL 60525.

Date Revoked: April 19, 2010.

Reason: Surrendered license voluntarily.

License Number: 004364NF.

Name: Cargotech, LLC dba Cargomania.

Address: 400 South Avenue, Middlesex, NJ 08846.

Date Revoked: April 14, 2010.

Reason: Failed to maintain valid bonds.

License Number: 015949F.

Name: Sanyo Logistics Corporation.

Address: 3625 Del Amo Blvd., #105, Torrance, CA 90503.

Date Revoked: April 8, 2010.

Reason: Failed to maintain a valid bond.

License Number: 009741N.

Name: Covan International, Inc.

Address: 1 Covan Drive, Midland City, AL 36350.

Date Revoked: April 15, 2010.

Reason: Failed to maintain a valid bond.

License Number: 016860N.

Name: Encompass Overseas Shipping, Inc.

Address: 5419 Hollywood Blvd., Suite C-285, Hollywood, CA 90027.

Date Revoked: April 9, 2010.

Reason: Failed to maintain a valid bond.

License Number: 17692NF.

Name: American Links Logistics International, Inc.

Address: 3591 Highland Drive, San Bruno, CA 94066.

Date Revoked: April 3, 2010.

Reason: Failed to maintain valid bonds.

License Number: 017753NF.

Name: Associated Consolidators Express dba A.C.E. Balikbayan Boxes Direct.

Address: 1273 Industrial Parkway, #290, Hayward, CA 94544.

Date Revoked: April 1, 2010.

Reason: Failed to maintain valid bonds.

License Number: 017845F.

Name: Uniworld Express, Inc.

Address: 520 Carson Plaza Ct., Suite 211, Carson, CA 90746.

Date Revoked: April 24, 2010.

Reason: Failed to maintain a valid bond.

License Number: 018094NF.

Name: Cargo Logistics Network Company.

Address: 1825 Cross Beam Road, Suite C, Charlotte, NC 28217.

Date Revoked: April 24, 2010.

Reason: Failed to maintain valid bonds.

License Number: 18226N.

Name: Panex Logistics Int'l (U.S.A.), Inc.

Address: 3255 Wilshire Blvd., Suite 903, Los Angeles, CA 90010.

Date Revoked: April 18, 2010.

Reason: Failed to maintain a valid bond.

License Number: 018706NF.

Name: Epic International Transport, LLC.

Address: 6048 Lido Lane, Long Beach, CA 90803.

Date Revoked: April 9, 2010.

Reason: Surrendered license voluntarily.

License Number: 019271NF.

Name: Xima Freight Services, Inc.

Address: 1525 NW 82nd Avenue, Miami, FL 33126.

Date Revoked: April 23, 2010.

Reason: Failed to maintain valid bonds.

License Number: 019374NF.

Name: Agents' House International, Inc.

Address: 2120 Dennis Street, Suite 301, Jacksonville, FL 32204.

Dates Revoked: April 3, 2010 and April 11, 2010.

Reason: Failed to maintain valid bonds.

License Number: 019840N.

Name: West Point Relocation.

Address: 10505 Glenoaks Blvd., Pacoima, CA 91331.

Date Revoked: April 14, 2010.

Reason: Failed to maintain a valid bond.

License Number: 020153NF.

Name: Sea Global Logistics, Inc.

Address: 690 Knox Street, Suite 220, Torrance, CA 90502.

Date Revoked: April 2, 2010.

Reason: Failed to maintain valid bonds.

License Number: 021360N.

Name: Profes NWFS, Inc. dba New World Freight System dba Cargo Alliance Service.

Address: 1071 Sneath Lane, San Bruno, CA 94066.

Date Revoked: March 14, 2010.

Reason: Surrendered license voluntarily.

License Number: 021418F.

Name: Asbun International Freight, Inc.

Address: 8140 NW. 74th Avenue, Suites 13 & 14, Medley, FL 33166.

Date Revoked: March 10, 2010.

Reason: Failed to maintain a valid bond.

License Number: 021975N.

Name: Adora International LLC dba Adora.

Address: 16813 FM 1485, Conroe, TX 777306.

Date Revoked: April 20, 2010.

Reason: Surrendered license voluntarily.

Sandra L. Kusumoto,
Director, Bureau of Certification and Licensing.

[FR Doc. 2010-10753 Filed 5-6-10; 8:45 am]

BILLING CODE 6730-01-P